DEPARTMENT OF TRANSPORTATION

Federal Aviation Administration

14 CFR Part 71

[Airspace Docket No. 00-AGL-01]

Proposed Modification of Class D Airspace; Establishment of Class E Airspace; and Modification of Class E Airspace; Belleville, IL

AGENCY: Federal Aviation Administration (FAA), DOT.

ACTION: Notice of proposed rulemaking.

SUMMARY: This notice proposes to modify Class D airspace, modify Class E airspace and establish Class E airspace at Belleville, IL. An Instrument Landing System (ILS) Standard Instrument Approach Procedure (SIAP) to Runway (Rwy) 32L, a Tactical Air Navigation (TACAN) SIAP to Rwy 32L, and a TACAN SIAP to Rwy 14R, have been developed for Scott AFB/MidAmerica Airport. Controlled airspace extending upward from the surface is needed to contain aircraft executing these approaches. This action would increase the radius of the existing Class D airspace, create a new Class E airspace extension to the Class D airspace, and modify the exiting Class E airspace by increasing the radius and modifying the extensions, for Scott AFB/MidAmerica Airport.

DATES: Comments must be received on or before April 3, 2000.

ADDRESSES: Send comments on the proposal in triplicate to: Federal Aviation Administration, Office of the Regional Counsel, AGL-7, Rules Docket No. 00-AGL-01, 2300 East Devon Avenue, Des Plaines, Illinois 60018.

The official docket may be examined in the Office of the Regional Counsel, Federal Aviation Administration, 2300 East Devon Avenue, Des Plaines, Illinois. An informal docket may also be examined during normal business hours at the Air Traffic Division, Airspace Branch, Federal Aviation Administration, 2300 East Devon Avenue, Des Plaines, Illinois.

FOR FURTHER INFORMATION CONTACT: Denis C. Burke, Air Traffic Division, Airspace Branch, AGL-520, Federal Aviation Administration, 2300 East Devon Avenue, Des Plaines, Illinois 670018, telephone (847) 294-7568.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. 00-AGL-01.” The postcard will be date/time stamped and returned to the commenter. All communications received on or before the specified closing date for comments will be considered before taking action on the proposed rule. The proposal contained in this notice may be changed in light of comments received. All comments submitted will be available for examination in the Rules Docket, FAA, Great Lakes Region, Office of the Regional Counsel, 2300 East Devon Avenue, Des Plaines, Illinois, both before and after the closing date for comments. A report summarizing each substantive public contact with FAA personnel concerned with this rulemaking will be filed in the docket.

Availability of NPRM's

Any person may obtain a copy of this Notice of Proposed Rulemaking (NPRM) by submitting a request to the Federal Aviation Administration, Office of the Public Affairs, Attention: Public Inquiry Center, APA-230, 800 Independence Avenue, SW, Washington, DC 20591, or by calling (202) 267-3484. Communications must identify the notice number of this NPRM. Persons interested in being placed on a mailing list for future NPRM's should also request a copy of Advisory Circular No. 11-2A, which describes the application procedure.

The Proposal

The FAA is considering an amendment to 14 CFR part 71 to modify Class D airspace, establish Class E airspace, and modify Class E airspace, at Belleville, IL, by increasing the radius of the existing Class D airspace, creating a new Class E airspace extension to the Class D airspace, and modifying the existing Class E airspace by increasing the radius and modifying the extensions for Scott AFB/MidAmerica Airport. Controlled airspace extending upward from the surface is needed to contain aircraft executing instrument approach procedures. The area would be depicted on appropriate aeronautical charts. Class D airspace designations are published in paragraph 5000, Class E airspace areas designated as extensions to a Class D airspace area are published in paragraph 6004, and Class E airspace areas extending upward from 700 feet or more above the surface of the Earth are published in paragraph 6005, of FAA Order 7400.9G dated September 10, 1999, and effective September 16, 1999, which is incorporated by reference in 14 CFR 71.1. The Class D and Class E designations listed in this document would be published subsequently in the Order.

The FAA has determined that this proposed regulation only involves an establishment body of technical regulations for which frequent and routine amendments are necessary to keep them operationally current. Therefore this, proposed regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule will not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 10, 1999, and effective September 16, 1999, is amended as follows:

* * * * *

Paragraph 5000 Class D airspace.

* * * * *

AGL IL D Belleville, IL [Revised]

Belleville, Scott AFB/MidAmerica Airport, IL

(Lat. 38°32′41″N., long. 89°50′01″W.)

That airspace extending upward from the surface to and including 3,000 feet MSL within a 4.9-mile radius of the Scott AFB/MidAmerica Airport. This Class D airspace area is effective during the specific dates and times established in advance by Notice to Airmen. The effective date and time will therafter be continuously published in the Airport/Facility Director.

* * * * *

Paragraph 6004 Class E airspace areas designated as an extension to a Class D airspace area.

* * * * *

AGL IL E4 Belleville, IL [New]

Belleville, Scott AFB/MidAmerica Airport, IL

(Lat. 38°32′41″N., long. 89°50′01″W.)

Scott TACAN

(Lat. 38°32′43″N., long. 89°51′06″W.)

That airspace extending upward from the surface within 1.5 miles each side of the Scott TACAN 312° radial extending from the 4.9-mile radius of the Scott AFB/MidAmerica Airport to 10.0 miles northwest of the Scott TACAN. This Class E airspace area is effective during the specific dates and times established in advance by Notice to Airmen. The effective date and time will thereafter be continuously published in the Airport/Facility Directory.

* * * * *

Paragraph 6005 Class E airspace areas extending upward from 700 feet or more above the surface of the earth.

* * * * *

AGL IL E5 Belleville, IL [Revised]

Belleville, Scott AFB/MidAmerica Airport, IL

(Lat. 38°32′41″N., long. 89°50′01″W.)

Scott TACAN

(Lat. 38°32′43″N., long. 89°51′06″W.)

That airspace extending upward from 700 feet above the surface within a 7.4-mile radius of Scott AFB/MidAmerica Airport and within 1.5 miles each side of the Scott TACAN 312° radial extending from the 7.4-mile radius to 10.0 miles northwest of the Scott TACAN and within 1.7 miles each side of the Scott TACAN 140° radial extending from the 7.4-mile radius to 14.0 miles southeast of the Scott TACAN, excluding that airspace within the St. Jacob, IL, and Cahokia, IL, Class E airspace areas.

* * * * *

Issued in Des Plaines, Illinois on February 3, 2000.
Christopher R. Blum,
Manager, Air Traffic Division.

[FR Doc. 00-3976 Filed 2-17-00; 8:45 am]

BILLING CODE 4910-13-M